DEPARTMENT OF HOMELAND SECURITY

Federal Emergency Management Agency

[Docket ID FEMA-2010-0023]

Recovery Policy RP9523.3, Provision of Temporary Relocation Facilities

AGENCY: Federal Emergency Management Agency, DHS.

ACTION: Notice of availability; request for comments.

SUMMARY: The Federal Emergency Management Agency (FEMA) is accepting comments on Recovery Policy RP9523.3, Provision of Temporary Relocation Facilities. This is an existing policy that is scheduled for review to ensure that Recovery Directorate policies are up to date, incorporate lessons learned and are consistent with current laws and regulations. The purpose of this policy is to provide guidance on determining eligibility for and duration of temporary facilities under the Public Assistance Program.

DATES: Comments must be received by June 1, 2010.

ADDRESSES: Comments must be identified by docket ID FEMA-2010-0023 and may be submitted by one of the following methods:

Federal eRulemaking Portal: http://www.regulations.gov. Follow the instructions for submitting comments. Please note that this proposed policy is not a rulemaking and the Federal Rulemaking Portal is being utilized only as a mechanism for receiving comments.

Mail: Regulation & Policy Team, Office of Chief Counsel, Federal Emergency Management Agency, Room 835, 500 C Street, SW., Washington, DC 20472-3100.

FOR FURTHER INFORMATION CONTACT: Michele Gast, Public Assistance Division, via e-mail at Michele.Gast@dhs.gov or by facsimile at (202) 646-3304. If you have any questions, please call Ms. Gast at (202) 646-2706, Federal Emergency Management Agency, 500 C Street, SW., Washington, DC 20472.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section above. Please submit your comments and any supporting material by only one means to avoid the receipt and review of duplicate submissions.

Docket: The proposed policy is available in docket ID FEMA-2010-0023. For access to the docket to read background documents or comments received, go to the Federal eRulemaking Portal at http://www.regulations.gov and search for the docket ID. Submitted comments may also be inspected at FEMA, Office of Chief Counsel, Room 835, 500 C Street, SW., Washington, DC 20472.

II. Background

This policy provides guidance on determining eligibility for and duration of a temporary facility under the FEMA Public Assistance Program. As a result of major disasters and emergencies, services provided at public and private nonprofit (PNP) facilities may be disrupted to the extent that they cannot continue unless they are temporarily relocated to another facility. Applicants may request temporary facilities to continue that service.

Section 403 of the Robert T. Stafford Disaster Relief and Emergency Assistance Act (Stafford Act), Public Law 93-288, as amended, authorizes FEMA to provide Federal assistance to meet immediate threats to life and property resulting from a major disaster. Specifically, Section 403(a)(3)(D) of the Stafford Act allows for the provision of temporary facilities for schools and other essential community services, when it is related to saving lives and protecting and preserving property or public health and safety. In the draft updated policy, FEMA is proposing to include libraries and other private non-profit facilities that demonstrate they provide eligible health and safety services as eligible facilities for temporary relocation.

FEMA seeks comment on the proposed policy, which is available online at http://www.regulations.gov in docket ID FEMA-2010-0023. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov.

Authority: 42 U.S.C. 5121-5207; 44 CFR part 206.

Robert Farmer,
Deputy Director, Office of Policy and Program Analysis, Federal Emergency Management Agency.

[FR Doc. 2010-9980 Filed 4-28-10; 8:45 am]

BILLING CODE 9111-23-P